DEPARTMENT OF ENERGY

Federal Energy Regulatory Commission

Combined Notice of Filings #1

Take notice that the Commission received the following electric corporate filings:

Docket Numbers: EC12-89-000

Applicants: Twin Cities Power, LLC.

Description: Twin Cities Power, LLC requests authorization under Section 203 of the Federal Power Act and Request for Expedited Consideration.

Filed Date: 3/30/12.

Accession Number: 20120330-5493.

Comments Due: 5 p.m. ET 4/20/12.

Take notice that the Commission received the following exempt wholesale generator filings:

Docket Numbers: EG12-53-000.

Applicants: Eagle Point Power Generation LLC.

Description: Notice of Self-Certification as an Exempt Wholesale Generator of Eagle Point Power Generation LLC.

Filed Date: 4/2/12.

Accession Number: 20120402-5143.

Comments Due: 5 p.m. ET 4/23/12.

Take notice that the Commission received the following electric rate filings:

Docket Numbers: ER10-2579-001.

Applicants: NorthPoint Energy Solutions Inc.

Description: Notice of Non-Material Change in Status of NorthPoint Energy Solutions, Inc.

Filed Date: 3/30/12.

Accession Number: 20120330-5478.

Comments Due: 5 p.m. ET 4/20/12.

Docket Numbers: ER11-4326-001; ER11-3069-002; ER11-3545-001; ER11-3141-002; ER11-3098-002.

Applicants: Viridian Energy NY LLC, Viridian Energy, Inc., Viridian Energy MD LLC, Viridian Energy PA, LLC, Cincinnati Bell Energy LLC.

Description: Supplement to the notice of non-material change in status of Viridian Energy MD LLC, et al.

Filed Date: 03/23/2012.

Accession Number: 20120323-5150.

Comment Date: 5 p.m. ET 4/13/12.

Docket Numbers: ER11-4479-002.

Applicants: Endure Energy, L.L.C.

Description: Endure Energy, L.L.C., submits its Notification of Change in Status.

Filed Date: 3/30/12.

Accession Number: 20120330-5491.

Comments Due: 5 p.m. ET 4/20/12.

Docket Numbers: ER12-1413-000.

Applicants: PSEG New Haven LLC.

Description: PSEG New Haven LLC Market Based Rate Tariff to be effective 4/6/2012.

Filed Date: 3/30/12.

Accession Number: 20120330-5399.

Comments Due: 5 p.m. ET 4/20/12.

Docket Numbers: ER12-1414-000.

Applicants: Black Hills Power, Inc.

Description: BH Power, Inc., JOATT Replacement Sections to be effective 9/30/2010.

Filed Date: 3/30/12.

Accession Number: 20120330-5404.

Comments Due: 5 p.m. ET 4/20/12.

Docket Numbers: ER12-1415-000.

Applicants: Southwest Power Pool, Inc.

Description: 2403 Sunflower-ITC Interconnection Agreement to be effective 6/1/2012.

Filed Date: 3/30/12.

Accession Number: 20120330-5420.

Comments Due: 5 p.m. ET 4/20/12.

Docket Numbers: ER12-1416-000.

Applicants: Oklahoma Gas and Electric Company.

Description: Amended and Restated Network Integration Transmission Service Agreement to be effective 5/31/2012.

Filed Date: 3/30/12.

Accession Number: 20120330-5432.

Comments Due: 5 p.m. ET 4/20/12.

Docket Numbers: ER12-1417-000.

Applicants: San Diego Gas & Electric Company.

Description: SDGE Citizens Formula Appendix X to be effective 6/1/2012.

Filed Date: 3/30/12.

Accession Number: 20120330-5449.

Comments Due: 5 p.m. ET 4/20/12.

Docket Numbers: ER12-1418-000.

Applicants: TC Ravenswood, LLC.

Description: Rate Schedule to be effective 3/30/2012.

Filed Date: 4/2/12.

Accession Number: 20120402-5000.

Comments Due: 5 p.m. ET 4/12/12.

Docket Numbers: ER12-1421-000.

Applicants: ISO New England Inc., Central Maine Power Company.

Description: CMP MPRP CWIP Rev. to Attach. F and Schedule 21-CMP to be effective 6/1/2012.

Filed Date: 4/2/12.

Accession Number: 20120402-5102.

Comments Due: 5 p.m. ET 4/23/12.

Docket Numbers: ER12-1422-000.

Applicants: PJM Interconnection, L.L.C.

Description: Revisions to the PJM Tariff & OA re Lost Opportunity Cost for Wind to be effective 6/1/2012.

Filed Date: 4/2/12.

Accession Number: 20120402-5157.

Comments Due: 5 p.m. ET 4/23/12.

Docket Numbers: ER12-1423-000.

Applicants: Southwest Power Pool, Inc.

Description: 1839R1 City of Osage Kansas NITSA NOA to be effective 3/1/2012.

Filed Date: 4/2/12.

Accession Number: 20120402-5166.

Comments Due: 5 p.m. ET 4/23/12.

Docket Numbers: ER12-1424-000.

Applicants: Southwest Power Pool, Inc.

Description: 1997R1 City of Mulvane, Kansas NITSA NOA to be effective 3/1/2012.

Filed Date: 4/2/12.

Accession Number: 20120402-5172.

Comments Due: 5 p.m. ET 4/23/12.

Take notice that the Commission received the following open access transmission tariff filings:

Docket Numbers: OA07-35-006.

Applicants: Cleco Power LLC.

Description: Cleco Power LLC's 2011 Informational Filing of Operational Penalty Assessments and Distributions as Required by Order Nos. 890 and 890-A.

Filed Date: 4/2/12.

Accession Number: 20120402-5139.

Comments Due: 5 p.m. ET 4/23/12.

Docket Numbers: OA08-100-005.

Applicants: Duke Energy Carolinas, LLC.

Description: Duke Energy Carolina, LLC's Informational Filing of Operational Penalty Assessments and Distributions as Required by Order Nos. 890 and 890-A in OA08-100.

Filed Date: 4/2/12.

Accession Number: 20120402-5138.

Comments Due: 5 p.m. ET 4/23/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2012.
Nathaniel J. Davis, Sr.,
Deputy Secretary.

[FR Doc. 2012-8569 Filed 4-9-12; 8:45 am]

BILLING CODE 6717-01-P